DEPARTMENT OF TRANSPORTATION

Federal Aviation Administration

14 CFR Part 71

[Docket No. FAA-2016-9377; Airspace Docket No. 16-AEA-8]

RIN 2120-AA66

Amendment of Class E Airspace for Lancaster, PA; and Williamsport, PA

AGENCY: Federal Aviation Administration (FAA), DOT.

ACTION: Final rule; technical amendment.

SUMMARY: This action amends the legal description of Class E surface airspace at Lancaster Airport, Lancaster, PA, by removing the Lancaster VORTAC from the header, and rewording the description for clarity. Also, this action amends the legal description of Class E surface airspace at Williamsport Regional Airport, Williamsport, PA, by removing the Williamsport Regional Airport ILS localizer from the header, and rewording the description for clarity. Finally, this action amends the legal description of Class E airspace designated as an extension to Class D airspace at Williamsport Regional Airport by rewording the description for clarity. This action does not affect the boundaries or operating requirements of the airspace.

DATES: Effective 0901 UTC, November 8, 2018. The Director of the Federal Register approves this incorporation by reference action under title 1, Code of Federal Regulations, part 51, subject to the annual revision of FAA Order 7400.11 and publication of conforming amendments.

ADDRESSES: FAA Order 7400.11.C Airspace Designations and Reporting Points, and subsequent amendments can be viewed online at http://www.faa.gov/airtraffic/publications/. For further information, you can contact the Airspace Policy and Regulations Group, Federal Aviation Administration, 800 Independence Avenue SW, Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it makes a clerical correction to the headers and descriptions of Lancaster Airport, Lancaster, PA, and Williamsport Regional Airport, Williamsport, PA.

History

The FAA Aeronautical Information Services branch found the Class E surface airspace descriptors for Lancaster Airport, Lancaster, PA, and Williamsport Regional Airport, Williamsport, PA required clarification as published in FAA Order 7400.11C, Airspace Designations and Reporting Points. The headers of Class E surface area airspace were incorrect in the Order. Also, a clerical amendment in the legal description also is made to the airspace designation, by adding verbiage to the description, for clarity.

Class E airspace designations are published in paragraph 6002, and 6004, respectively, of FAA Order 7400.11C dated August 13, 2018, and effective September 15, 2018, which is incorporated by reference in 14 CFR part 71.1. The Class E airspace designations listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This action amends Title 14 Code of Federal Regulations (14 CFR) part 71 by correcting the headers and descriptors of Class E surface airspace of Lancaster Airport, Lancaster, PA, and Williamsport Regional Airport, Williamsport, PA. The Lancaster VORTAC is removed from Lancaster, PA header, and the Williamsport Regional Airport ILS localizer is removed from the Williamsport, PA, header, as neither are used in the descriptors. Also, “That airspace extending from the surface” is added to the Class E surface airspace descriptor of both airports, and “to a 7-mile radius of the airport “is added to the Class E airspace designated as an extension to a Class D surface area of Williamsport Regional Airport's descriptor.

This is an administrative change and does not affect the boundaries, or operating requirements of the airspace, therefore, notice and public procedure under 5 U.S.C. 553(b) are unnecessary.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.11C, Airspace Designations and Reporting Points, dated August 13, 2018, effective September 15, 2018, is amended as follows:

Paragraph 6002 Class E Surface Area Airspace.

* * * * *

AEA PA E2 Lancaster, PA [Amended]

Lancaster Airport, PA

(Lat. 40°07′21″ N, long. 76°17′40″ W)

That airspace extending from the surface within a 4.1-mile radius of Lancaster Airport, and that airspace extending upward from the surface. This Class E airspace area is effective during the specific dates and times established in advance by a Notice to Airmen. The effective date and time will thereafter be continuously published in the Chart Supplement.

* * * * *

AEA PA E2 Williamsport, PA [Amended]

Williamsport Regional Airport, PA

(Lat. 41°14′30″ N, long. 76°55′19″ W)

That airspace extending from the surface within a 4.2-mile radius of Williamsport Regional Airport. This Class E airspace area is effective during the specific dates and times established in advance by a Notice to Airmen. The effective date and time will thereafter be continuously published in the Chart Supplement.

Paragraph 6004 Class E Airspace Designated as an Extension to a Class D Surface Area.

* * * * *

AEA PA E4 Williamsport, PA [Amended]

Williamsport Regional Airport, PA

(Lat. 41°14′30″ N, long. 76°55′19″ W)

Williamsport Regional Airport ILS localizer

(Lat. 41°14′17″ N, long. 76°56′17″ W)

That airspace extending upward from the surface from the 4.2-mile radius of Williamsport Regional Airport to a 7-mile radius of the airport, extending clockwise from a 270° bearing to the 312° bearing from the airport and within an 11.3-mile radius of the airport extending clockwise from the 312° bearing to the 350° bearing from the airport and within an 11.3-mile radius of the airport extending clockwise from the 004° bearing to the 099° bearing from the airport and within 3.5 miles south of the airport east localizer course extending from the 4.2-mile radius of the airport east to the 099° bearing from the airport.

Issued in College Park, Georgia, on October 3, 2018.
Ryan W. Almasy,
Manager, Operations Support Group, Eastern Service Center, Air Traffic Organization.

[FR Doc. 2018-22254 Filed 10-15-18; 8:45 am]

BILLING CODE 4910-13-P